NATIONAL SCIENCE FOUNDATION

Committee Management; Notice of Establishment

The Director of the National Science Foundation has determined that the establishment of the U.S. Antarctic Program Blue Ribbon Panel is necessary and in the public interest in connection with the performance of duties imposed upon the National Science Foundation (NSF), by 42 U.S.C. 1861 et seq. This determination follows consultation with the Committee Management Secretariat, General Services Administration.

Name of Committee: U.S. Antarctic Program Blue Ribbon Panel (#76826).

Purpose: The Panel will conduct an independent review of the current U.S. Antarctic Program to ensure the nation is pursing the best twenty-year trajectory for conducting science and diplomacy in Antarctica. The Panel will aim to identify and characterize a range of options for supporting and implementing the required national scientific endeavors, international collaborations and strong U.S. presence in Antarctica. The Panel will examine the appropriate amount of R&D and complementary scientific activities needed to make Antarctic activities most productive and affordable over the long term, as well as appropriate opportunities for international collaboration.

Responsible NSF Official: Karl Erb, Director, Office of Polar Programs, National Science Foundation, 4201 Wilson Boulevard, Arlington, VA 22230. Telephone: 703/292-8030.

Dated: March 9, 2011.
Susanne Bolton,
Committee Management Officer.

[FR Doc. 2011-5734 Filed 3-11-11; 8:45 am]

BILLING CODE 7555-01-P